NATIONAL FOUNDATION ON THE ARTS AND THE HUMANITIES

National Endowment for the Arts

Federal Advisory Committee on International Exhibitions—Notice of Change

Pursuant to section 10(a)(2) of the Federal Advisory Committee Act (Pub. L. 92-463), as amended, notice is hereby given that the teleconference meeting of the Federal Advisory Committee on International Exhibitions (FACIE), originally scheduled for Wednesday, January 29, 2003, has been rescheduled for January 31, 2003, from 2-4 p.m. in room 709 at the Nancy Hanks Center, 1100 Pennsylvania Avenue, NW., Washington, DC, 20506.

Further information with reference to this meeting can be obtained from Ms. Kathy Plowitz-Worden, Panel Coordinator, National Endowment for the Arts, Washington, DC, 20506, or call 202/682-5691.

Dated: January 23, 2003.
Kathy Plowitz-Worden,
Panel Coordinator, Panel Operations, National Endowment for the Arts.

[FR Doc. 03-2085 Filed 1-28-03; 8:45 am]

BILLING CODE 7537-01-P